DEPARTMENT OF ENERGY

Federal Energy Regulatory Commission

Combined Notice of Filings #1

August 31, 2010.

Take notice that the Commission received the following exempt wholesale generator filings:

Docket Numbers: EG10-64-000.

Applicants: Baldwin Wind, LLC.

Description: Notice of Self-Certification of Exempt Wholesale Generator Status of Baldwin Wind, LLC.

Filed Date: 08/31/2010.

Accession Number: 20100831-5076.

Comment Date: 5 p.m. Eastern Time on Tuesday, September 21, 2010.

Take notice that the Commission received the following electric rate filings:

Docket Numbers: ER96-1947-029; ER10-450-003; ER07-1000-008; ER00-3696-015.

Applicants: Las Vegas Power Company, LLC, Griffith Energy LLC, LS Power Marketing, LLC, Arlington Valley, LLC.

Description: Supplement to Updated Market Power Analysis of LS Power Marketing, LLC, et. al.

Filed Date: 08/30/2010.

Accession Number: 20100830-5188.

Comment Date: 5 p.m. Eastern Time on Monday, September 20, 2010.

Docket Numbers: ER10-2042-001; ER10-1947-001; ER10-1942-001; ER10-1941-001; ER10-1938-001; ER10-1888-001; ER10-1885-001; ER10-1883-001; ER10-1878-001; ER10-1864-001; ER10-1862-001; ER10-1865-001; ER10-1873-001; ER10-1875-001; ER10-1884-001; ER10-1876-001.

Applicants: Calpine Energy Services, L.P., South Point Energy Center, LLC, Delta Energy Center, LLC, Geysers Power Company, LLC, Otay Mesa Energy Center, LLC, Calpine Power America—CA, LLC, Pastoria Energy Center, LLC, Metcalf Energy Center, LLC, Los Medanos Energy Center LLC, Los Esteros Critical Energy Facility LLC, Goose Haven Energy Center, LLC, Gilroy Energy Center, LLC, Creed Energy Center, LLC, Calpine Gilroy Cogen, L.P., Power Contract Financing, L.L.C., Calpine Construction Finance Co., L.P.

Description: Supplement to Updated Market Power Analysis of Calpine Corporation under ER10-2042, et al.

Filed Date: 08/30/2010.

Accession Number: 20100830-5186.

Comment Date: 5 p.m. Eastern Time on Monday, September 20, 2010.

Docket Numbers: ER10-2459-000.

Applicants: New York Independent System Operator, Inc.

Description: New York Independent System Operator submits tariff filing per 35: Resubmittal of NYISO August 16, 2010 Compliance Filing to be effective 8/16/2010.

Filed Date: 08/30/2010.

Accession Number: 20100830-5155.

Comment Date: 5 p.m. Eastern Time on Monday, September 20, 2010.

Docket Numbers: ER10-2460-000.

Applicants: Canandaigua Power Partners, LLC.

Description: Canandaigua Power Partners, LLC submits tariff filing per 35.12: Canandaigua Power Partners MBR Baseline to be effective 8/30/2010.

Filed Date: 08/30/2010.

Accession Number: 20100830-5159.

Comment Date: 5 p.m. Eastern Time on Monday, September 20, 2010.

Docket Numbers: ER10-2461-000.

Applicants: Canandaigua Power Partners II, LLC.

Description: Canandaigua Power Partners II, LLC submits tariff filing per 35.12: Canandaigua Power Partners II MBR Baseline to be effective 8/30/2010.

Filed Date: 08/30/2010.

Accession Number: 20100830-5160.

Comment Date: 5 p.m. Eastern Time on Monday, September 20, 2010.

Docket Numbers: ER10-2462-000.

Applicants: Evergreen Wind Power V, LLC.

Description: Evergreen Wind Power V, LLC submits tariff filing per 35.12: Evergreen Wind Power V MBR Baseline to be effective 8/30/2010.

Filed Date: 08/30/2010.

Accession Number: 20100830-5161.

Comment Date: 5 p.m. Eastern Time on Monday, September 20, 2010.

Docket Numbers: ER10-2463-000.

Applicants: Evergreen Wind Power, LLC.

Description: Evergreen Wind Power, LLC submits tariff filing per 35.12: Evergreen Wind Power MBR Baseline to be effective 8/30/2010.

Filed Date: 08/30/2010.

Accession Number: 20100830-5162.

Comment Date: 5 p.m. Eastern Time on Monday, September 20, 2010.

Docket Numbers: ER10-2464-000.

Applicants: First Wind Energy Marketing, LLC.

Description: First Wind Energy Marketing, LLC submits tariff filing per 35.12: First Wind Energy Marketing MBR Baseline to be effective 8/30/2010.

Filed Date: 08/30/2010.

Accession Number: 20100830-5163.

Comment Date: 5 p.m. Eastern Time on Monday, September 20, 2010.

Docket Numbers: ER10-2465-000.

Applicants: Milford Wind Corridor Phase I, LLC.

Description: Milford Wind Corridor Phase I, LLC submits tariff filing per 35.12: Milford Wind Corridor Phase I MBR Baseline to be effective 8/30/2010.

Filed Date: 08/30/2010.

Accession Number: 20100830-5164.

Comment Date: 5 p.m. Eastern Time on Monday, September 20, 2010.

Docket Numbers: ER10-2466-000.

Applicants: Stetson Wind II, LLC.

Description: Stetson Wind II, LLC submits tariff filing per 35.12: Stetson Wind II MBR to be effective 8/30/2010.

Filed Date: 08/30/2010.

Accession Number: 20100830-5167.

Comment Date: 5 p.m. Eastern Time on Monday, September 20, 2010.

Docket Numbers: ER10-2467-000.

Applicants: Hoosier Wind Project, LLC.

Description: Hoosier Wind Project, LLC submits tariff filing per 35.12: Hoosier Wind Project LLC Market-Based Rate Tariff Baseline Filing to be effective 8/30/2010.

Filed Date: 08/30/2010.

Accession Number: 20100830-5171.

Comment Date: 5 p.m. Eastern Time on Monday, September 20, 2010.

Docket Numbers: ER10-2468-000.

Applicants: Fowler Ridge Wind Farm LLC.

Description: Fowler Ridge Wind Farm LLC submits tariff filing per 35.12: Baseline to be effective 8/30/2010.

Filed Date: 08/30/2010.

Accession Number: 20100830-5172.

Comment Date: 5 p.m. Eastern Time on Monday, September 20, 2010.

Docket Numbers: ER10-2469-000.

Applicants: Southern California Edison Company.

Description: Southern California Edison Company submits a Small Generator Interconnection Agreement and a Service Agreement for Wholesale Distribution Service, to be effective 9/1/2010.

Filed Date: 08/31/2010.

Accession Number: 20100831-5002.

Comment Date: 5 p.m. Eastern Time on Tuesday, September 21, 2010.

Docket Numbers: ER10-2470-000.

Applicants: Southern California Edison Company.

Description: Southern California Edison Company submits a Small Generator Interconnection Agreement and a Service Agreement for Wholesale Distribution Service, to be effective 9/1/2010.

Filed Date: 08/31/2010.

Accession Number: 20100831-5003.

Comment Date: 5 p.m. Eastern Time on Tuesday, September 21, 2010.

Docket Numbers: ER10-2471-000.

Applicants: Southern California Edison Company.

Description: Southern California Edison Company submits a Small Generator Interconnection Agreement and a Service Agreement for Wholesale Distribution Service, to be effective 9/1/2010.

Filed Date: 08/31/2010.

Accession Number: 20100831-5004.

Comment Date: 5 p.m. Eastern Time on Tuesday, September 21, 2010.

Docket Numbers: ER10-2472-000.

Applicants: Black Hills Wyoming, LLC.

Description: Black Hills Wyoming, LLC submits a baseline tariff filing of its market-based rate wholesale power sales tariff, to be effective 9/2/2010.

Filed Date: 08/31/2010.

Accession Number: 20100831-5006.

Comment Date: 5 p.m. Eastern Time on Tuesday, September 21, 2010.

Docket Numbers: ER10-2473-000.

Applicants: Cheyenne Light, Fuel and Power Company.

Description: Cheyenne Light, Fuel and Power Company submits the Baseline filing of its market-based rate wholesale power sales tariff, to be effective 9/2/2010.

Filed Date: 08/31/2010.

Accession Number: 20100831-5007.

Comment Date: 5 p.m. Eastern Time on Tuesday, September 21, 2010.

Docket Numbers: ER10-2474-000.

Applicants: Sierra Pacific Power Company.

Description: Sierra Pacific Power Company submits the Baseline Electronic Tariff Filing of FERC Electric Tariff, Volume No. 7, to be effective 8/31/2010.

Filed Date: 08/31/2010.

Accession Number: 20100831-5008.

Comment Date: 5 p.m. Eastern Time on Tuesday, September 21, 2010.

Docket Numbers: ER10-2475-000.

Applicants: Nevada Power Company.

Description: Nevada Power Company submits the Baseline Electronic Tariff Filing of FERC Electric Tariff, Volume No. 11, to be effective 8/31/2010.

Filed Date: 08/31/2010.

Accession Number: 20100831-5009.

Comment Date: 5 p.m. Eastern Time on Tuesday, September 21, 2010.

Docket Numbers: ER10-2476-000.

Applicants: BG Energy Merchants, LLC.

Description: BG Energy Merchants, LLC submits tariff filing per 35.12: BG Energy Merchants—FERC Electric Tariff to be effective 8/31/2010.

Filed Date: 08/31/2010.

Accession Number: 20100831-5022.

Comment Date: 5 p.m. Eastern Time on Tuesday, September 21, 2010.

Docket Numbers: ER10-2477-000.

Applicants: ISO New England Inc.

Description: ISO New England Inc submits the Forward Capacity Auction Results Filing.

Filed Date: 08/30/2010.

Accession Number: 20100831-0201.

Comment Date: 5 p.m. Eastern Time on Monday, September 20, 2010.

Docket Numbers: ER10-2478-000.

Applicants: Infinite Energy, Inc.

Description: Infinite Energy, Inc. submits tariff filing per 35.12: Infinite Energy, Inc. Market-Based Rate Tariff to be effective 8/31/2010.

Filed Date: 08/31/2010.

Accession Number: 20100831-5030.

Comment Date: 5 p.m. Eastern Time on Tuesday, September 21, 2010.

Docket Numbers: ER10-2479-000.

Applicants: South Carolina Electric & Gas Transmission.

Description: South Carolina Electric & Gas Transmission submits tariff filing per 35.12: Refile Tariff (Baseline Filing) to be effective 8/30/2010.

Filed Date: 08/31/2010.

Accession Number: 20100831-5031.

Comment Date: 5 p.m. Eastern Time on Tuesday, September 21, 2010.

Docket Numbers: ER10-2480-000.

Applicants: Berkshire Power Company, LLC.

Description: Berkshire Power Company, LLC submits tariff filing per 35.12: Berkshire Power Company, LLC FERC Electric Rate Schedule No. 1 to be effective 8/31/2010.

Filed Date: 08/31/2010.

Accession Number: 20100831-5043.

Comment Date: 5 p.m. Eastern Time on Tuesday, September 21, 2010.

Docket Numbers: ER10-2481-000.

Applicants: Ingenco Wholesale Power, LLC.

Description: Ingenco Wholesale Power, LLC submits tariff filing per 35.12: Baseline eTariff Filing to be effective 8/31/2010.

Filed Date: 08/31/2010.

Accession Number: 20100831-5045.

Comment Date: 5 p.m. Eastern Time on Tuesday, September 21, 2010.

Docket Numbers: ER10-2482-000.

Applicants: Southwest Power Pool, Inc.

Description: Southwest Power Pool, Inc. submits tariff filing per 35.13(a)(2)(iii): 2045 Westar Energy NITSA and NOA to be effective 8/1/2010.

Filed Date: 08/31/2010.

Accession Number: 20100831-5057.

Comment Date: 5 p.m. Eastern Time on Tuesday, September 21, 2010.

Docket Numbers: ER10-2483-000.

Applicants: Southwest Power Pool, Inc.

Description: Southwest Power Pool, Inc. submits tariff filing per 35.13(a)(2)(iii): 2014R1 City of Lindsborg, KS NITSA and NOA to be effective 8/1/2010.

Filed Date: 08/31/2010.

Accession Number: 20100831-5058.

Comment Date: 5 p.m. Eastern Time on Tuesday, September 21, 2010.

Docket Numbers: ER10-2484-000.

Applicants: Fitchburg Gas and Electric Light Company.

Description: Fitchburg Gas and Electric Light Company submits tariff filing per 35.12: FGE Market Based Rate Baseline Tariff to be effective 8/30/2010.

Filed Date: 08/31/2010.

Accession Number: 20100831-5061.

Comment Date: 5 p.m. Eastern Time on Tuesday, September 21, 2010.

Docket Numbers: ER10-2485-000.

Applicants: Unitil Energy Systems, Inc.

Description: Unitil Energy Systems, Inc. submits tariff filing per 35.12: UES Market Based Rate Baseline Tariff to be effective 8/30/2010.

Filed Date: 08/31/2010.

Accession Number: 20100831-5065.

Comment Date: 5 p.m. Eastern Time on Tuesday, September 21, 2010.

Docket Numbers: ER10-2486-000.

Applicants: Unitil Energy Systems, Inc.

Description: Unitil Energy Systems, Inc. submits tariff filing per 35.12: UES Transmission Tariff Baseline Filing to be effective 8/30/2010.

Filed Date: 08/31/2010.

Accession Number: 20100831-5066.

Comment Date: 5 p.m. Eastern Time on Tuesday, September 21, 2010.

Docket Numbers: ER10-2487-000.

Applicants: Pacific Summit Energy LLC.

Description: Pacific Summit Energy LLC submits tariff filing per 35.12: Pacific Summit Energy LLC Baseline Tariff to be effective 8/31/2010.

Filed Date: 08/31/2010.

Accession Number: 20100831-5072.

Comment Date: 5 p.m. Eastern Time on Tuesday, September 21, 2010.

Docket Numbers: ER10-2488-000.

Applicants: Oasis Power Partners, LLC.

Description: Oasis Power Partners, LLC submits tariff filing per 35.12: Oasis Power Partners LLC Market-Based Rate Tariff Baseline Filing to be effective 8/31/2010.

Filed Date: 08/31/2010.

Accession Number: 20100831-5074.

Comment Date: 5 p.m. Eastern Time on Tuesday, September 21, 2010.

Docket Numbers: ER10-2489-000.

Applicants: Southwest Power Pool, Inc.

Description: Southwest Power Pool, Inc. submits tariff filing per 35.13(a)(2)(iii): 1148R12 American Electric Power Service Corp. NITSA and NOA to be effective 8/1/2010.

Filed Date: 08/31/2010.

Accession Number: 20100831-5105.

Comment Date: 5 p.m. Eastern Time on Tuesday, September 21, 2010.

Take notice that the Commission received the following electric securities filings:

Docket Numbers: ES09-31-003.

Applicants: Entergy Texas, Inc.

Description: Entergy Texas, Inc. submits supplemental information to their application filed on July 29, 2010 requesting an amendment to its existing authorization to issue long-term debt.

Filed Date: 08/30/2010.

Accession Number: 20100830-5116.

Comment Date: 5 p.m. Eastern Time on Thursday, September 09, 2010.

Take notice that the Commission received the following qualifying facility filings:

Docket Numbers: QF10-630-000.

Applicants: Heritage Hospital.

Description: Self-Certification of QF by PowerSecure Inc. for Heritage Hospital in Tarboro, NC.

Filed Date: 08/27/2010.

Accession Number: 20100827-5024.

Comment Date: Not Applicable.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-22266 Filed 9-7-10; 8:45 am]

BILLING CODE 6717-01-P